DEPARTMENT OF ENERGY

Federal Energy Regulatory Commission

Combined Notice of Filings No. 1

June 5, 2009.

Take notice that the Commission has received the following Natural Gas Pipeline Rate and Refund Report filings:

Docket Numbers: RP09-733-000.

Applicants: Texas Gas Transmission, LLC.

Description: Texas Gas Transmission, LLC submits Second Revised Sheet 99A to FERC Gas Tariff, Third Revised Volume 1, to be effective 6/3/09.

Filed Date: 06/03/2009.

Accession Number: 20090604-0481.

Comment Date: 5 p.m. Eastern Time on Monday, June 15, 2009.

Docket Numbers: RP09-735-000.

Applicants: Maritimes & Northeast Pipeline, LLC.

Description: Maritimes & Northeast Pipeline, LLC submits Seventh Revised Sheet No. 307 et al. to FERC Gas Tariff, First Revised Volume No. 1 in compliance with Order No. 587-T, to be effective 8/1/09.

Filed Date: 06/01/2009.

Accession Number: 20090604-0115.

Comment Date: 5 p.m. Eastern Time on Monday, June 15, 2009.

Docket Numbers: RP09-736-000.

Applicants: East Tennessee Natural Gas, LLC.

Description: East Tennessee Natural Gas, LLC submits Sixth Revised Sheet No. 1 et al. to FERC Gas Tariff, Third Revised Volume No. 1 in compliance with Order No. 587-T, to be effective 8/1/09.

Filed Date: 06/01/2009.

Accession Number: 20090604-0114.

Comment Date: 5 p.m. Eastern Time on Monday, June 15, 2009.

Docket Numbers: RP09-737-000.

Applicants: Tennessee Gas Pipeline Company.

Description: Tennessee Gas Pipeline Co submits Eleventh Revised Sheet No. 99 et al. to FERC Gas Tariff, Fifth Revised Volume No. 1 in compliance with Order No. 587-T, effective 8/1/09.

Filed Date: 06/01/2009.

Accession Number: 20090604-0113.

Comment Date: 5 p.m. Eastern Time on Monday, June 15, 2009.

Docket Numbers: RP09-738-000.

Applicants: MarkWest Pioneer, LLC.

Description: MarkWest Pioneer, LLC submits First Revised Sheet No. 99 et al. to FERC Gas Tariff, Third Revised Volume No. 1 in compliance with Order No. 587-9 and 698, effective 8/1/09.

Filed Date: 06/01/2009.

Accession Number: 20090604-0112.

Comment Date: 5 p.m. Eastern Time on Monday, June 15, 2009.

Docket Numbers: RP09-739-000.

Applicants: Iroquois Gas Transmission System, LP.

Description: Iroquois Gas Transmission System, LP submits Ninth Revised Sheet No. 57 et al. to FERC Gas Tariff, First Revised Volume No. 1, to be effective 8/1/09.

Filed Date: 06/01/2009.

Accession Number: 20090604-0111.

Comment Date: 5 p.m. Eastern Time on Monday, June 15, 2009.

Docket Numbers: RP09-740-000.

Applicants: Columbia Gas Transmission, LLC.

Description: Columbia Gas Transmission, LLC submits First Revised Sheet No. 529 et al. to FERC Gas Tariff, Third Revised Volume No. 1, to be effective 7/2/09.

Filed Date: 06/02/2009.

Accession Number: 20090604-0110.

Comment Date: 5 p.m. Eastern Time on Monday, June 15, 2009.

Docket Numbers: RP09-741-000.

Applicants: Alliance Pipeline LP.

Description: Alliance Pipeline LP submits Fourth Revised Sheet No. 276 et al. to FERC Gas Tariff, Original Volume No. 1, to be effective 8/1/09.

Filed Date: 06/01/2009.

Accession Number: 20090604-0109.

Comment Date: 5 p.m. Eastern Time on Monday, June 15, 2009.

Docket Numbers: RP09-742-000.

Applicants: Venice Gathering System, LLC.

Description: Venice Gathering System, LLC submits Fifth Revised Sheet No. 51 et al. to FERC Gas Tariff, Original Volume No. 1 in compliance with Order No. 587-T, to be effective 11/1/09.

Filed Date: 06/01/2009.

Accession Number: 20090604-0108.

Comment Date: 5 p.m. Eastern Time on Monday, June 15, 2009.

Docket Numbers: RP09-743-000.

Applicants: Stingray Pipeline Company, LLC.

Description: Stingray Pipeline Company, LLC submits Reserve Dedication Agreement for FTS-2 service with Mariner Energy Inc et al.

Filed Date: 06/02/2009.

Accession Number: 20090604-0478.

Comment Date: 5 p.m. Eastern Time on Monday, June 15, 2009.

Docket Numbers: RP09-744-000.

Applicants: Colorado Interstate Gas Company.

Description: Colorado Interstate Gas Company submits Seventh Revised Sheet 7A et al. to FERC Gas Tariff, First Revised Volume 1, to be effective 6/1/09.

Filed Date: 06/02/2009.

Accession Number: 20090604-0477.

Comment Date: 5 p.m. Eastern Time on Monday, June 15, 2009.

Docket Numbers: RP09-746-000.

Applicants: Panther Interstate Pipeline Energy, LLC.

Description: Panther Interstate Pipeline Energy, LLC submits Second Revised Sheet 58 et al. to its FERC Gas Tariff, Original Volume 1, to be effective 8/1/09.

Filed Date: 06/01/2009.

Accession Number: 20090605-0271.

Comment Date: 5 p.m. Eastern Time on Monday, June 15, 2009.

Docket Numbers: RP09-747-000.

Applicants: Rockies Express Pipeline LLC.

Description: Rockies Express Pipeline LLC., submits First Revised Sheet 250 et al. to its FERC Gas Tariff, Second Revised Volume 1, to be effective 8/1/09.

Filed Date: 06/01/2009.

Accession Number: 20090605-0270.

Comment Date: 5 p.m. Eastern Time on Monday, June 15, 2009.

Docket Numbers: RP09-748-000.

Applicants: Quest Pipelines (KPC).

Description: Quest Pipelines (KPC) submits First Revised Sheet 190 et al. to its FERC Gas Tariff, Second Revised Volume 1, to be effective 8/1/09.

Filed Date: 06/01/2009.

Accession Number: 20090605-0269.

Comment Date: 5 p.m. Eastern Time on Monday, June 15, 2009.

Docket Numbers: RP09-749-000.

Applicants: NGO Transmission, Inc.

Description: NGO Transmission, Inc submits Third Revised Sheet 113 et al. to its FERC Gas Tariff, Original Volume 1, to be effective 8/1/09.

Filed Date: 06/01/2009.

Accession Number: 20090605-0268.

Comment Date: 5 p.m. Eastern Time on Monday, June 15, 2009.

Docket Numbers: RP09-750-000.

Applicants: MarkWest New Mexico, LLC.

Description: MarkWest New Mexico, LLC submits First Revised Sheet 113 et al. to its FERC Gas Tariff, Second Revised Volume 1, to be effective 8/1/09.

Filed Date: 06/01/2009.

Accession Number: 20090605-0267.

Comment Date: 5 p.m. Eastern Time on Monday, June 15, 2009.

Docket Numbers: RP09-751-000.

Applicants: Trailblazer Pipeline Company LLC.

Description: Trailblazer Pipeline Company, LLC submits First Revised Sheet 244 et al. to FERC Gas Tariff, First Revised Volume 1 to be effective 8/1/09.

Filed Date: 06/01/2009.

Accession Number: 20090605-0266.

Comment Date: 5 p.m. Eastern Time on Monday, June 15, 2009.

Docket Numbers: RP09-752-000.

Applicants: Horizon Pipeline Company, LLC.

Description: Horizon Pipeline Company, LLC submits Fourth Revised Sheet 223 et al. to FERC Gas Tariff, Original Volume 1 to be effective 8/1/09.

Filed Date: 06/01/2009.

Accession Number: 20090605-0265.

Comment Date: 5 p.m. Eastern Time on Monday, June 15, 2009.

Docket Numbers: RP09-753-000.

Applicants: TransColorado Gas Transmission Company L.

Description: TransColorado Gas Transmission Company submits First Revised Sheet 203 to its FERC Gas Tariff, Second Revised Volume 1 to be effective 8/1/09.

Filed Date: 06/01/2009.

Accession Number: 20090605-0264.

Comment Date: 5 p.m. Eastern Time on Monday, June 15, 2009.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov. or call (866) 208-3676 (toll free). For TTY, call (202) 502-8659.

Nathaniel J. Davis, Sr.,
Deputy Secretary.

[FR Doc. E9-13794 Filed 6-11-09; 8:45 am]

BILLING CODE 6717-01-P